INTERNATIONAL TRADE COMMISSION

[Inv. No. 337-TA-485]

In the Matter of Certain Truck Bed Ramps and Components Thereof; Notice of Commission Decision Not to Review an Initial Determination Finding No Violation of Section 337 of the Tariff Act of 1930 and Terminating the Investigation

AGENCY: International Trade Commission.

ACTION: Notice.

SUMMARY: Notice is hereby given that the U.S. International Trade Commission has determined not to review the presiding administrative law judge's (“ALJ's”) initial determination (“ID”) finding no violation of section 337 of the Tariff Act of 1930 and terminating the above-captioned investigation.

FOR FURTHER INFORMATION CONTACT: Michael K. Haldenstein, Esq., Office of the General Counsel, U.S. International Trade Commission, 500 E Street, SW., Washington, DC 20436, telephone (202) 205-3041. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on January 24, 2003, based on a complaint filed by Charles D. Walkden (“Walkden”) of Homer, Alaska. 68 FR 3550 (2003). The complaint, as amended, alleged violations of section 337 in the importation, sale for importation, and sale within the United States after importation of certain truck bed ramps and components thereof that infringe claim 1 of U.S. Patent No. 5,795,125 (“the ’125 patent”). The Commission named as respondents ETEC of Saskatoon, SK, Canada; Textron Inc. (“Textron”) of Providence, Rhode Island; VIP Distributing of Anchorage, Alaska; Southwest Distributing Co. of Clinton, Oklahoma; and Hamilton Equipment Inc. of Ephrata, Pennsylvania. Id. Textron was subsequently terminated from the investigation on the basis of a consent order.

On June 2, 2003, the Commission investigative attorney (“IA”) moved pursuant to Commission rule 210.15(a) for summary determination of non-infringement. On July 10, 2003, the ALJ issued an ID granting the IA's motion. No petitions for review of the ID were filed.

This action is taken under the authority of section 337 of the Tariff Act of 1930, as amended (19 U.S.C. 1337), and 210.42 of the Commission's Rules of Practice and Procedure (19 CFR 210.42).

Issued: August 6, 2003.
By order of the Commission.
Marilyn R. Abbott,
Secretary to the Commission.

[FR Doc. 03-20384 Filed 8-8-03; 8:45 am]

BILLING CODE 7020-02-P